DEPARTMENT OF LABOR

Employment and Training Administration

[TA-W-60,734]

Primary Staffing Services, Inc. Workers Employed at Pearson Artworks a Division of Pearson Education, Inc.York, PA; Notice of Negative Determination on Reconsideration

On May 4, 2007, the Department issued an Affirmative Determination Regarding Application for Reconsideration for the workers and former workers of the subject firm. The notice was published in the Federal Register on May 11, 2007 (72 FR 26848-26849).

The petition for the workers of Primary Staffing Services, Inc. employed at Pearson Artworks, a division of Pearson Education, Inc., York, Pennsylvania engaged in computer entry, project management, status communication, file delivery, and quality assurance activities related to the production of WEB based line art illustrations was denied because imports of WEB based line art illustrations did not contribute importantly to worker separations at the subject firm and no shift of production to a foreign source occurred.

The petitioner filed a request for reconsideration in which the petitioner alleged that Pearson Artworks shifted the production of textbook illustrations from York, Pennsylvania to Canada, thus causing separations of workers from the subject firm.

A company official was contacted for clarification in regard of a shift in production to Canada. The official stated that there was no shift in production of textbook illustration functions from Pearson Education, Inc., York, Pennsylvania to Canada in 2006 and January of 2007. The official emphasized that the reason of decreasing production of textbook illustrations at the facility in York, Pennsylvania lies behind “an overall business strategy” of Pearson Artworks to shift its focus away from volume illustrations to more of a research and development model.

The petitioner also disagreed with the previous findings that “worker separation at the subject firm was due to a change from manual to automated work processes and not to imports or shift in production” and alleged that “no new automated processes were implemented during the course of workers employment that would eliminate their services.”

The company official informed that contrary to petitioners' statements, the workers of the Primary Staffing Services, Inc. were no longer needed because Pearson Education, York, Pennsylvania “developed internal process that streamlined the workflow, thus decreasing the number of employees needed to perform the tasks of the Company's operations in its York office.” In particular, the official clarified that these new processes included Manuscript Maker, which automates the creation of art manuscript and visual assets database, Proof Maker and Correction script, which provide automated art proofs and corrections, Media and new automated shipping methods via FedEx and UPS installed computers.

The investigation on reconsideration supported the findings that imports of WEB based line art illustrations did not contribute importantly to worker separations at the subject firm and no shift of production to a foreign source occurred.

Conclusion

After reconsideration, I affirm the original notice of negative determination of eligibility to apply for worker adjustment assistance for workers and former workers of Primary Staffing Services, Inc., workers employed at Pearson Artworks, a division of Pearson Education, Inc., York, Pennsylvania.

Signed at Washington, DC this 8th day of June, 2007.
Linda G. Poole,
Certifying Officer,Division of Trade Adjustment Assistance.

[FR Doc. E7-11834 Filed 6-19-07; 8:45 am]

BILLING CODE 4510-FN-P